DEPARTMENT OF COMMERCE

International Trade Administration

A-570-849

Cut-to-Length Carbon Steel Plate, from the People's Republic of China: Notice of Rescission of Antidumping Duty New Shipper Review

AGENCY: Import Administration, International Trade Administration, Department of Commerce

SUMMARY: In response to a request from Hunan Valin Xiangtan Iron &Steel Co. Ltd. (“Valin Xiangtan”), on January 17, 2008, the Department of Commerce (“Department”) published in the Federal Register a notice announcing the initiation of a new shipper review (“NSR”) of the antidumping duty order on certain cut-to-length carbon steel plate (“CTL plate”) from the People's Republic of China (“PRC”) covering the period November 1, 2006, through October 31, 2007. See Certain Cut-to-Length Carbon Steel Plate From the People's Republic of China; Initiation of New Shipper Review, 73 FR 3236 (January 17, 2008). On April 18, 2008, the Department explained that it was expanding the period of review (“POR”) until November 30, 2007, pursuant to 19 CFR 351.214(f)(2)(ii) in order to cover Valin Xiangtan's entry of the subject merchandise.¹ Because Valin Xiangtan's sale of subject merchandise is covered by both the NSR and the November 1, 2007 through October 31, 2008 administrative review of the order on CTL plate from the PRC, pursuant to section 351.214(j)(1) of the Department's regulations, the Department is rescinding this new shipper review.

¹ See Memorandum to Wendy J. Frankel, Office Director, AD/CVD Operations, Office 8, Import Administration through Blanche Ziv, Program Manager, from Demitri Kalogeropoulos, International Trade Analyst, regarding “Expansion of the Period of Review,” dated April 18, 2008.

EFFECTIVE DATE: April 8, 2009.

FOR FURTHER INFORMATION CONTACT: Demitri Kalogeropoulos or Trisha Tran, AD/CVD Operations, Office 8, Import Administration, International Trade Administration, U.S. Department of Commerce, 14th Street and Constitution Avenue, NW, Washington, DC 20230; telephone: (202) 482-2623 and (202) 482-4852, respectively.

SUPPLEMENTARY INFORMATION:

Background

On January 17, 2008, the Department initiated the new shipper review of CTL plate for Valin Xiangtan. See Certain Cut-to-Length Carbon Steel Plate From the People's Republic of China; Initiation of New Shipper Review, 73 FR 3236 (January 17, 2008). On December 24, 2008, the Department initiated an administrative review of the antidumping duty order on CTL plate with respect to Valin Xiangtan for the period November 1, 2007, through October 31, 2008. See Initiation of Antidumping and Countervailing Duty Administrative Reviews and Request for Revocation in Part, 73 FR 79055 (December 24, 2008).

Rescission of New Shipper Review

Section 351.214(j)(1) of the Department's regulations states that “if a review (or a request for review) under § 351.213 (administrative review), § 351.214 (new shipper review), § 351.215 (expedited antidumping review), or § 351.216 (changed circumstances review) covers merchandise of an exporter or producer subject to a review (or request for a review) under this section, the Secretary may, after consulting with the exporter or producer: (1) rescind, in whole or part, a review in progress under this subpart…”. In the instant case, the entry made by Valin Xiangtan covered by the new shipper review is also covered by the period of review of the administrative review that the Department initiated on December 24, 2008. See 73 FR 79055. Thus, because the Department is conducting an administrative review and a new shipper review that covers the same merchandise, after consultation with the exporter,² the Department is rescinding the new shipper review for Valin Xiangtan. We will review Valin Xiangtan's sale covered by the NSR during the course of the administrative review.

² See Letter from Wendy J. Frankel, Director, Office 8, Antidumping and Countervailing Duty Operations to Hunan Valin Xiangtan Iron &Steel Co., Ltd., dated March 27, 2009. See also Memorandum to the File from Erin Begnal, Program Manager, regarding “Meeting with Counsel to Hunan Valin Xiangtan Iron &Steel Co., Ltd.,” dated March 30, 2009.

Notification Regarding Administrative Protective Orders

This notice also serves as a reminder to parties subject to administrative protective order (“APO”) of their responsibility concerning the disposition of proprietary information disclosed under APO in accordance with 19 CFR 351.305(a)(3). Timely written notification of the return or destruction of APO materials or conversion to judicial protective order is hereby requested. Failure to comply with the regulations and the terms of an APO is a sanctionable violation.

This notice is published in accordance with section 777(i) of the Act and 19 CFR 351.214(f)(3).

Dated: April 1, 2009.
Gary Taverman,
Acting Deputy Assistant Secretary for Antidumping and Countervailing Duty Operations.

[FR Doc. E9-7979 Filed 4-7-09; 8:45 am]

BILLING CODE 3510-DS-S